DEPARTMENT OF COMMERCE

Bureau of the Census

[Docket Number 180319296-8296-01]

Final Content Design for the Prototype 2020 Census Redistricting Data File

AGENCY: Bureau of the Census, Department of Commerce.

ACTION: Notice.

SUMMARY: The Bureau of the Census (U.S. Census Bureau) hereby provides notification of the final design for the Prototype 2020 Census Redistricting Data File to be produced from the 2018 End-to-End Census Test. In addition, this notice contains a summary of the comments received in response to the November 8, 2017 Federal Register notice as well as the Census Bureau's responses to those comments. We are issuing this notice to inform the public of the expected data tables being produced from the 2018 End-to-End Census Test as part of Phase 3 (Data Delivery phase) of the 2020 Census Redistricting Data Program.

DATES: The Final Content Design for the Prototype 2020 Census Redistricting Data File in this notice will be official May 31, 2018.

FOR FURTHER INFORMATION CONTACT: James Whitehorne, Chief, Census Redistricting and Voting Rights Data Office, U.S. Census Bureau, 4600 Silver Hill Road, Room 4H057, Washington, DC 20233, telephone (301) 763-4039, or email rdo@census.gov.

SUPPLEMENTARY INFORMATION: Under the provisions of Public Law 94-171, as amended (Title 13, United States Code (U.S.C.), Section 141(c)), the Director of the Census Bureau is required to provide the “officers or public bodies with initial responsibility for legislative apportionment or districting of each state . . .” with the opportunity to specify small geographic areas (e.g., census blocks, voting districts, wards, and election precincts) for which they wish to receive decennial census population totals for the purpose of reapportionment and redistricting.

By April 1 of the year following the census, the Secretary of Commerce is required to furnish those state officials or their designees with population counts for counties, cities, census blocks, and state-specified congressional districts, legislative districts, and voting districts.

The 2020 Census Redistricting Data Program was initially announced on July 15, 2014, in the Federal Register (79 FR 41258). This notice described the program that the Census Bureau proposed to adopt for the 2020 Census. As seen in the 1990, 2000, and 2010 censuses, the 2020 Census Redistricting Data Program is partitioned into several phases. Phase 1, the Block Boundary Suggestion Project, was announced in a Federal Register notice on June 26, 2015 (80 FR 36765). This notice described the procedures for the states to provide the Census Bureau with their suggestions for the 2020 Census tabulation block inventory. Phase 2, the Voting District Project, was announced in a Federal Register notice on June 28, 2017 (82 FR 29276). This second phase specifically provides states the opportunity to provide the Census Bureau with their voting district boundaries (election precincts, wards, etc.). Phase 3 of the 2020 Redistricting Data Program is data delivery.

The 2020 Census Redistricting Data Program provides states the opportunity to specify the small geographic areas for which they wish to receive 2020 Census population totals for the purpose of reapportionment and redistricting. This notice pertains to Phase 3, the Data Delivery phase of the program, and the content of the Prototype 2020 Census Redistricting Data File that will be produced from the 2018 End-to-End Census Test.

Summary of Comments Received in Response to the “Proposed Content for the Prototype 2020 Census Redistricting Data File”

On November 8, 2017, the Census Bureau published a notice in the Federal Register asking for public comment on the “Proposed Content for the Prototype 2020 Census Redistricting Data File” (82 FR 51805). The Census Bureau received three comments.

Comment 1: The comment expressed support for keeping separate questions on Hispanic origin and race.

Response to Comment 1: As this Federal Register notice pertains to data product format and not data collection methods, this comment is considered outside the scope of this notice.

Comment 2: The comment expressed support for including the group quarters tabulation as a part of the data product.

Response to Comment 2: The group quarters tabulation will be included as a part of the Prototype 2020 Redistricting Data File.

Comment 3: The comment expressed support for a Middle East North African race or ethnicity category for data collection.

Response to Comment 3: As this Federal Register notice pertains to data product format and not data collection methods, this comment is considered outside the scope of this notice.

The Census Bureau will continue to communicate with each state to ensure all are well informed of the benefits of working with the Census Bureau toward a successful 2020 Census. In addition, the Census Redistricting and Voting Rights Data Office will continue to work with each state to ensure that all are prepared to participate in every phase of the Redistricting Data Program. As required by Public Law 94-171, every state, regardless of its participation in Phase 1 or Phase 2, will receive the official redistricting data in Phase 3.

Final Content Design for the Prototype 2020 Census Redistricting Data File

This final content design takes into account that the Census Bureau has now determined that planned race and ethnicity questions for the 2020 Census will follow a two-question format. The decision to use separate questions is detailed in the 2020 Census Memorandum Series as Memorandum 2018.02. It is available at: https://www.census.gov/programs-surveys/decennial-census/2020-census/planning-management/memo-series/2020-memo-2018_02.html.

While the decision to use separate questions means the final content design announced here differs from what was proposed in the previous notice, the possibility of using separate questions for race and ethnicity and its effect on the prototype file design was addressed in that notice. Using separate questions follows the most current race and ethnicity collection guidance set by the Office of Management and Budget, which remains unchanged since 1997.

In accordance with the provisions of Title 13, U.S.C., Section 141(c), and on behalf of the Secretary of Commerce, the U.S. Census Bureau Director previously requested comments on the proposed content of the required population counts being produced as part of Phase 3 of the 2020 Census Redistricting Data Program.

The proposed content stated that should the Census Bureau use separate questions on race and ethnicity, then the prototype file would revert to the same design as that used for the 2010 Census. In addition, the proposed content stated that regardless of whether a separate or combined question format is used in the 2020 Census, a group quarters table will be added to assist those states that reallocate populations before redistricting. This table will include the group quarters categories of: Institutionalized populations (correctional facilities for adults, juvenile facilities, nursing facilities/skilled nursing facilities, and other institutional facilities) and noninstitutionalized populations (college/university student housing, military quarters, and other non-institutionalized facilities). The group quarters table will include state, county, county subdivision, voting district, tract, and block geographic levels for the total population in the group quarters count. Thus, the final design of the Prototype 2020 Census Redistricting Data File will be the same design as that used for the 2010 Census Redistricting Data File, with the addition of a group quarters table.

A schematic of the tables planned for the Prototype 2020 Census Redistricting File is available at the Census Bureau's FTP site at: https://www2.census.gov/programs-surveys/decennial/rdo/about/2020-census-program/Phase3/Phase3_prototype_schematic_final.pdf.

Dated: April 24, 2018.
Ron S. Jarmin,
Associate Director for Economic Programs Performing the Non-Exclusive Functions and Duties of the Director Bureau of the Census.

[FR Doc. 2018-09189 Filed 4-30-18; 8:45 am]

BILLING CODE 3510-07-P